DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Mary Jean Pajak, Federal Emergency Management Agency, 500 C Street SW., Washington, DC 20472, (202) 646-2831.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of Flooding and Location | #Depth in feet above ground. *Elevation in feet (NGVD) •Elevation in feet (NAVD)
PENNSYLVANIA
Tinicum (Township), Bucks County (FEMA Docket No. D-7528)
Delaware River:
Approximately 0.25 mile upstream of Uhlerstown Hill Road | *127
Approximately 1.17 miles downstream of Upper Black Eddy Bridge | *134
Delaware River Overland Flow:
At confluence with the Delaware River | *128
At divergence from the Delaware River | *133
Maps available for inspection at the Tinicum Municipal Building, 163 Municipal Road, Pipersville, Pennsylvania.
VIRGINIA
Fairfax City (Independent City) (FEMA Docket No. D-7528)
Accotink Creek:
At the downstream corporate limits | *289
Approximately 50 feet upstream of Poplar Street | *397
Dale Lestina Tributary:
At the confluence with North Fork Accotink Creek | *313
Approximately 500 feet upstream of Plantation Parkway | *344
Daniels Run:
At the confluence with Accotink Creek | *296
Approximately 1,030 feet upstream of Sager Avenue | *406
Draper Drive Tributary:
Approximately 750 feet upstream of confluence with Accotink Creek | *307
Approximately 920 feet upstream of the confluence with Accotink Creek | *311
Little River Hills Tributary:
Approximately 150 feet upstream of the confluence with Daniels Run | *328
Approximately 1,460 feet upstream of Ashby Road | *379
Mosby Woods Tributary:
At the confluence with North Fork Accotink Creek | *332
Approximately 1,940 feet upstream of confluence with North Fork Accotink Creek | *342
North Fork Accotink Creek:
At the confluence with Accotink Creek | *313
Approximately 800 feet upstream of Howerton Avenue | *382
Ranger Road Tributary:
At the confluence with Accotink Creek | *312
Approximately 260 feet upstream of Ranger Road | *314
Tusico Branch:
At the confluence with Accotink Creek | *362
Approximately 570 feet upstream of Keith Avenue | *373
Tusico Branch (area of shallow flooding):
Approximately 570 feet upstream of Keith Avenue | #2
Approximately 625 feet upstream of Scott Drive | #2
Maps available for inspection at the Fairfax City Hall, 10455 Armstrong Street, Room 204, Fairfax, Virginia.

(Catalog of Federal Domestic Assistance No. 83.100, “Flood Insurance.”)

Dated: April 23, 2003.
Anthony S. Lowe,
Mitigation Division Director, Emergency Preparedness and Response Directorate.

[FR Doc. 03-10482 Filed 4-28-03; 8:45 am]

BILLING CODE 6718-04-P